DEPARTMENT OF TRANSPORTATION

Surface Transportation Board

[STB Finance Docket No. 35088]

Iowa, Chicago & Eastern Railroad Corporation—Acquisition Exemption—Line of BNSF Railway Company

AGENCY: Surface Transportation Board, DOT.

ACTION: Notice of exemption.

SUMMARY: The Board grants an exemption, under 49 U.S.C. 10502, from the prior approval requirements of 49 U.S.C. 10902 for the acquisition by Iowa, Chicago & Eastern Railroad Corporation (IC&E), a Class II rail carrier, of approximately 18.5 miles of rail line owned by BNSF Railway Company (BNSF), a Class I rail carrier, extending from a connection with another BNSF line at milepost 1.74 near East Moline, IL, to the end of the line at milepost 20.31 at Ceffco, IL, near Albany, IL, subject to the labor protection required by 49 U.S.C. 10902(d), including a 60-day notice requirement.

DATES: The exemption will be effective on December 28, 2007. Petitions to stay must be filed by December 14, 2007. Petitions to reopen must be filed by December 21, 2007.

ADDRESSES: An original and 10 copies of all pleadings, referring to STB Finance Docket No. 35088, must be filed with the Surface Transportation Board, 395 E Street, SW., Washington, DC 20423-0001. In addition, one copy of all pleadings must be served on petitioner's representatives: William C. Sippel and Thomas J. Litwiler, Fletcher & Sippel LLC, 29 North Wacker Drive, Suite 920, Chicago, IL 60606-2832.

FOR FURTHER INFORMATION CONTACT: Melissa Ziembicki, (202) 245-0386. [Assistance for the hearing impaired is available through the Federal Information Relay Service (FIRS) at 1-800-877-8339.]

SUPPLEMENTARY INFORMATION: Additional information is contained in the Board's decision. To purchase a copy of the full decision, write to, e-mail, or call: ASAP Document Solutions, 9332 Annapolis Rd., Suite 103, Lanham, MD 20706; e-mail: asapdc@verizon.net; telephone: (202) 306-4004. [Assistance for the hearing impaired is available through FIRS at 1-800-877-8339.]

Board decisions and notices are available on our Web site at http://www.stb.dot.gov.

Decided: November 28, 2007.
By the Board, Chairman Nottingham, Vice Chairman Buttrey, and Commissioner Mulvey.
Vernon A. Williams,
Secretary.

[FR Doc. E7-23465 Filed 12-3-07; 8:45 am]

BILLING CODE 4915-01-P